DEPARTMENT OF ENERGY

Federal Energy Regulatory Commission

[Docket No. CP01-74-000]

Natural Gas Pipeline Company of America; Notice of Application

January 31, 2001.

Take notice that on January 25, 2001, Natural Gas Pipeline Company of America (Natural), 747 East 22nd Street, Lombard, Illinois 60148, filed in Docket No. CP01-74-000 an application pursuant to section 7(b) of the Natural Gas Act for permission and approval to abandon its partial ownership of certain pipeline facilities located in the High Island area offshore Texas (HI), all as more fully set forth in the application on file with the Commission and open to public inspection. This filing may be viewed on the web at http://www.ferc.fed.us/online/htm (call 202-208-2222 for assistance).

The facilities proposed for abandonment include Natural's 10.0 percent interest in 2.31 miles of a 24-inch diameter lateral originating at the HI Block A-370 platform and terminating at a subsea tap located in HI Block A-350, including related tap and meter facilities and appurtenances. Natural also proposes to abandon its 4.912 percent interest in 6.01 miles of a 24-inch diameter lateral originating at a subsea tap in HI Block A-350 and terminating at the manifold platform located in HI Block A-330.

Natural proposes to abandon the facilities by sale to Transcontinental Gas Pipe Line Corporation (Transco). Natural explains that it has not used the facilities to move its own supplies since 1987 and that its only current shippers are interruptible transportation customers. Natural further explains that Transco would provide service to the customers at mutually acceptable rates, terms and conditions of service, so that no customers would be disadvantaged by the abandonment. It is stated that Natural would transfer its ownership in the facilities to Transco at no cost, since they have been fully depreciated. It is explained that Transco would acquire the facilities under its blanket certificate issued in Docket No. CP82-426-000.

Any questions regarding the application should be directed to Phillip R. Telleen, Esq., Attorney, at (630) 691-3749, Natural Gas Pipeline Company of America, 747 East 22nd Street, Lombard, Illinois 60148-5072.

Any person desiring to be heard or to make any protest with reference to said application should on or before February 21, 2001, file with the Federal Energy Regulatory Commission, 888 First Street, NE., Washington, DC 20426, a motion to intervene or a protest in accordance with the requirements of the Commission's Rules of Practice and Procedure (18 CFR 385.214 or 385.211) and the Regulations under the Natural Gas Act (18 CFR 157.10). All protests filed with the Commission will be considered by it in determining the appropriate action to be taken but will not serve to make the protestants parties to the proceeding. Any person wishing to become a party to a proceeding or to participate as a party in any hearing therein must file a motion to intervene in accordance with the Commission's Rules. Comments and protests may be filed electronically in lieu of paper. See 18 CFR 385.2001(a)(1)(iii) and the instructions on the Commission's website at http://ferc.fed.us/efi/doorbell.htm.

Take further notice that, pursuant to the authority contained in and subject to the jurisdiction conferred upon the Federal Energy Regulatory Commission by sections 7 and 15 of the Natural Gas Act and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for Natural to appear or be represented at the hearing.

David P. Boergers,
Secretary.

[FR Doc. 01-2997 Filed 2-5-01; 8:45 am]

BILLING CODE 6717-01-M